DEPARTMENT OF LABOR

Employment and Training Administration

[NAFTA-5335]

Antec Corp., a/k/a Arris International Keptel-Antec Division Tinton Falls, New Jersey; Notice of Termination of Investigation

Pursuant to Title V of the North American Free Trade Agreement Implementation Act and in accordance with Section 250(a), Subchapter D, Chapter 2, Title II of the Trade Act of 1974, as amended (19 USC 2331), an investigation was initiated on September 10, 2001, in response to a worker petition that was filed by the company on behalf of its workers at Keptel/Antec Division, Tinton Falls, New Jersey. The workers produced telephone equipment and interface devices.

All workers were separated from the subject firm more than one year prior to the date of the petition. Section 223 of the Act specifies that no certification may apply to any worker whose last separation occurred more than one year before the date of the petition. Consequently, further investigation in this case would serve no purpose, and the investigation in this case would serve no purpose, and the investigation has been terminated.

Signed in Washington, DC, this 5th day of February, 2002.
Linda G. Poole,
Certifying Officer, Division of Trade Adjustment Assistance.

[FR Doc. 02-3405 Filed 2-12-02; 8:45 am]

BILLING CODE 4510-30-M